DEPARTMENT OF THE INTERIOR

Fish and Wildlife Service

[FWS-HQ-FAC-2016-N054; FXFR133609ANS09-FF09F14000-134]

Aquatic Nuisance Species Task Force Meeting

AGENCY: Fish and Wildlife Service, Interior.

ACTION: Notice of meeting.

SUMMARY: We, the U.S. Fish and Wildlife Service, announce a public meeting of the Aquatic Nuisance Species (ANS) Task Force. The ANS Task Force's purpose is to develop and implement a program for U.S. waters to prevent introduction and dispersal of aquatic invasive species (AIS); to monitor, control, and study such species; and to disseminate related information.

DATES: The ANS Task Force will meet from 8 a.m. to 5 p.m. on Wednesday, November 9, 2016, and 8 a.m. to 5 p.m. on Thursday, November 10, 2016. For more information, contact the ANS Task Force Executive Secretary (see FOR FURTHER INFORMATION CONTACT).

ADDRESSES: The ANS Task Force meeting will take place at the U.S. Fish and Wildlife Headquarters, 5275 Leesburg Pike, Falls Church, VA 22041

FOR FURTHER INFORMATION CONTACT: Susan Pasko, Executive Secretary, ANS Task Force, by telephone at 703-358-2466, or by email at Susan_Pasko@fws.gov. If you use a telecommunications device for the deaf (TDD), please call the Federal Information Relay Service (FIRS) at 800-877-8339.

SUPPLEMENTARY INFORMATION: In accordance with the requirements of the Federal Advisory Committee Act, 5 U.S.C. App., we announce that the ANS Task Force will hold a meeting.

Background

The ANS Task Force was established by the Nonindigenous Aquatic Nuisance Prevention and Control Act of 1990 (Act) (Pub. L. 106-580, as amended), and is composed of 13 Federal and 15 ex-officio members, and co-chaired by the U.S. Fish and Wildlife Service and the National Oceanic and Atmospheric Administration. The ANS Task Force provides advice on AIS infesting waters of the United States and other nations, among other duties as specified in the Act.

Meeting Agenda

• New Species Occurrences

• Update on Policy and Planning from the National Invasive Species Council

• Session on Developing Effective Outreach Programs

• Updates from the Stop Aquatic Hitchhikers! and Habitattitude Campaigns

• Update on Ballast Water Legislation and Management Technologies

• Session on Organisms in Trade

• Update from the Arctic Council

• Discussion on ANS Task Force Member Reporting and Strategic Planning

• Updates from ANS Task Force Members, Regional Panels, and Committees

The final agenda and other related meeting information will be posted on the ANS Task Force Web site at http://anstaskforce.gov.

Meeting Minutes

Summary minutes of the meeting will be maintained by the Executive Secretary (see FOR FURTHER INFORMATION CONTACT). The minutes will be available for public inspection within 60 days after the meeting and will be posted on the ANS Task Force Web site at http://anstaskforce.gov.

Dated: September 9, 2016.
David W. Hoskins,
Co-Chair, Aquatic Nuisance Species Task Force, Assistant Director for Fish and Aquatic Conservation.

[FR Doc. 2016-24324 Filed 10-6-16; 8:45 am]

BILLING CODE 4333-15-P